DEPARTMENT OF LABOR

Employment and Training Administration

[TA-W-54,494]

Jones and Vining, Inc., Lewiston, ME; Notice of Revised Determination

The State of Maine requested administrative reconsideration regarding Alternative Trade Adjustment Assistance (ATAA). The request was made because the Department certified the workers of the subject firm regarding only eligibility to apply for worker adjustment assistance. The certification was signed on April 13, 2004. The notice was published in the Federal Register on May 24, 2004 (69 FR 29578):

The Department issued the limited certification because it did not investigate if workers met the eligibility requirement of Alternative Trade Adjustment Assistance (ATAA), since a copy of the request for determination of eligibility to apply for the ATAA program for Older Workers was not attached to the petition.

Because the State provided documentation that a request for ATAA consideration was properly submitted, an investigation was conducted to determine if workers are eligible to apply for ATAA.

The investigation revealed that a significant number of workers at the firm are age 50 or over and possess skills that are not easily transferable and that competitive conditions within the industry are adverse.

Conclusion

After careful review of the additional facts obtained on reconsideration, I conclude that the requirements of Section 246 of the Trade Act of 1974, as amended, have been met for workers at the subject firm.

In accordance with the provisions of the Act, I make the following certification:

“All workers of Jones and Vining, Inc., Lewiston, Maine, who became totally or partially separated from employment on or after March 10, 2003 through April 13, 2006, are eligible to apply for adjustment assistance under Section 223 of the Trade Act of 1974, and are also eligible to apply for alternative trade adjustment assistance under Section 246 of the Trade Act of 1974.”

Signed in Washington, DC this 7th day of September 2004.
Elliott S. Kushner,
Certifying Officer, Division of Trade Adjustment Assistance.

[FR Doc. 04-20865 Filed 9-15-04; 8:45 am]

BILLING CODE 4510-30-M